DEPARTMENT OF JUSTICE

Notice of Lodging of Consent Decree Under the Comprehensive Environmental Response, Compensation, and Liability Act

Notice is hereby given that on August 12, 2008, a proposed Remedial Design/Remedial Action Consent Decree (“Decree”) in United States and State of Rhode Island v. Rhode Island Board of Governors for Higher Education, et al., Civil Action No. 08-0306 (ML) was lodged with the United States District Court for the District of Rhode Island.

The Decree resolves claims of the United States and the State of Rhode Island against the Rhode Island Board of Governors for Higher Education, the University of Rhode Island, the Town of Narragansett, and the Town of South Kingstown brought under the Comprehensive Environmental Response, Compensation and Liability Act of 1980, (“CERCLA”), 42 U.S.C. 9601-9675, for declaratory relief, injunctive relief, and recovery of response costs incurred and to be incurred by the United States in connection with the release of hazardous substances at the West Kingston Town Dump/URI Disposal Area Superfund Site located in South Kingstown, Rhode Island (“Site”). The Decree requires the settling defendants to perform the remedy selected by EPA and to pay $650,000 to the governments for response costs, including EPA and Rhode Island Department of Environmental Management oversight costs. The work to be performed by the settling defendants is expected to cost about $2.343 million.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States and State of Rhode Island v. Rhode Island Board of Governors, et al., Civil Action No. 08-0306 (ML) (D.R.I.), D.J. Ref. 90-11-3-09142.

The Decree may be examined at the Office of the United States Attorney, District of Rhode Island, 50 Kennedy Plaza, 8th Floor, Providence, RI 02903, and at U.S. EPA Region I, 1 Congress Street, Boston, MA 02114. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.25 (25 cents per page reproduction cost) payable to the U.S. Treasury or, if by e-mail or fax, forward a check in that amount to the Consent Decree Library at the stated address.

Ronald G. Gluck,
Assistant Chief, Environmental Enforcement Section, Environment and Natural Resources Division.

[FR Doc. E8-19036 Filed 8-15-08; 8:45 am]

BILLING CODE 4410-15-P